DEPARTMENT OF TRANSPORTATION

Federal Highway Administration

[Docket No. FHWA-2009-0001]

Emergency Temporary Closure of I-395 & I-66 in the Commonwealth of Virginia

AGENCIES: Federal Highway Administration (FHWA), DOT.

ACTION: Announcement for the Virginia Department of Transportation to temporarily close I-395 & I-66 on January 20, 2009, for safety and security purposes for the Inauguration of the President of the United States.

SUMMARY: Pursuant to section 658.11 of title 23, Code of Federal Regulations, the Virginia Department of Transportation (VDOT) has requested approval of a plan to temporarily close segments of the Interstate to all traffic except buses and authorized vehicles—I-395 (between the Capital Beltway and the District of Columbia (DC) line) and I-66 (between the Capital Beltway and the DC line)—on January 20, 2009, beginning at 12 a.m., for one consecutive 24-hour period because of the Presidential Inauguration. The request has been made for the purposes of safety and security in and around the District of Columbia and as a complementary piece of the DC DOT traffic management plan.

The Interstate routes included in the request are part of the National Network of highways that can safely and efficiently accommodate the large vehicles authorized by provisions of the Surface Transportation Assistance Act of 1982 (STAA), as amended, designated in accordance with 23 CFR Part 658 and listed in Appendix A. This regulation limits the authority of the States to restrict the access of these commercial motor vehicles to the designated National Routes, and requires the approval of the FHWA for additions, deletions, exceptions and restrictions in accordance with 23 CFR 658.11.

The FHWA has decided to approve the request by the VDOT as an emergency deletion in accordance with section 658.11(e) due to the safety considerations discussed in this notice. The FHWA is requesting comments from the general public on this determination.

DATES: Comments must be received on or before January 16, 2009.

ADDRESSES: The letter of request along with justifications can be viewed electronically at the docket established for this rulemaking at http://www.regulations.gov. Hard copies of the documents will also be available for viewing at the DOT address listed below.

Mail or hand deliver comments to the U.S. Department of Transportation, Dockets Management Facility, Room W12-140, 1200 New Jersey Avenue, SE., Washington, DC 20590, or submit comments electronically at http://www.regulations.gov, or fax comments to (202) 493-2251. Alternatively, comments may be submitted via the Federal eRulemaking Portal at http://www.regulations.gov (follow the on-line instructions for submitting comments). All comments should include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically. All comments received into any docket may be searched in electronic format by the name of the individual submitting the comment (or signing the comment, if submitted on behalf of an association, business, labor union, etc.). Persons making comments may review DOT's complete Privacy Act Statement in the Federal Register published on April 11, 2000 (Volume 65, Number 70, Pages 19477-78), or you may view the statement at http://dms.dot.gov.

FOR FURTHER INFORMATION CONTACT: Mr. Michael P. Onder, Team Leader Truck Size and Weight and Freight Operations and Technology Team, (202) 366-2639, Raymond W. Cuprill, Office of the Chief Counsel, (202) 366-0791, Federal Highway Administration; 1200 New Jersey Avenue, SE., Washington, DC 20590, and Mr. Roberto Fonseca-Martinez, FHWA Division Administrator-Virginia, (804) 775-3333. Office hours for the FHWA are from 7:45 a.m. to 4:15 p.m., e.t., Monday through Friday, except Federal holidays.

SUPPLEMENTARY INFORMATION:

Electronic Access and Filing

You may submit or retrieve comments online through the Federal eRulemaking portal at: http://www.regulations.gov. The Web site is available 24 hours each day, 365 days each year. Electronic submission and retrieval help and guidelines are available under the help section of the Web site.

An electronic copy of this document may also be downloaded from Office of the Federal Register's home page at: http://www.archives.gov/federal_register and the Government Printing Office's Web page at: http://www.gpoaccess.gov.

Background

On January 20, 2009, as a result of the presidential inauguration activities, the number of participants and spectators on their way to the District of Columbia is expected to reach 2-4 million, overwhelming both the roadway and transit networks in the northern Virginia region and creating a safety hazard for commercial traffic to traverse these routes during that time. Additionally, preliminary data indicates that approximately 10,000 or more motor coaches within a 1,000 mile radius of DC are expected to travel to the District and about half of these are expected to come from Virginia. FHWA has already approved of DC's plan to close the I-395 and I-66 bridges into DC on Inauguration Day to all but buses and authorized vehicles.

The VDOT has submitted a request to FHWA for approval of a plan to temporarily close segments of the Interstate to all traffic except buses and authorized vehicles—I-395 (between the Capital Beltway and the District of Columbia (DC) line) and I-66 (between the Capital Beltway and the DC line)—on January 20, 2009, for one consecutive 24-hour period because of the Presidential Inauguration. Temporary closure of these segments to general purpose traffic means that the motor coaches can be moved in and out with maximum safety while providing the possibility of expedited departures in the event of an emergency. Temporary closure of these segments of Interstate to general purpose traffic also facilitates the movement of emergency vehicles into and out of the area, thereby enhancing safety.

The FHWA is responsible for enforcing the Federal regulations applicable to the National Network of highways that can safely and efficiently accommodate the large vehicles authorized by provisions of the Surface Transportation Assistance Act of 1982 (STAA), as amended, designated in accordance with 23 CFR Part 658 and listed in Appendix A. In accordance section 658.11 (Additions, deletions, exceptions, and restrictions), the FHWA may approve deletions or restrictions of the Interstate system or other National Network route based upon specified justification criteria in section 658.11(d)(2). The FHWA is also authorized to delete any route from the National Network on an emergency basis based on safety considerations pursuant to section 658.11(e). These emergency deletions are published in the Federal Register for notice and comment.

The FHWA has decided to approve the VDOT request as a deletion from the National Network on an emergency basis for safety considerations in accordance with 23 CFR 658.11(e). As a result, I-395 (between the Capital Beltway and the District of Columbia line) is deleted from the National Network on January 20, 2009, beginning at 12 a.m., for one consecutive 24-hour period. This approval is consistent with the FHWA's decision to grant a similar approval to a request from the DC DOT and published in the Federal Register on January 7, 2009 (74 FR 760). The expected large increase in traffic on these routes due to the presidential inauguration activities is expected to create a safety hazard for commercial traffic traversing these routes on that day.

Virginia's request to temporarily close I-66 eastbound and I-395 northbound between the Beltway and the DC line is in accord with the DC plan to manage traffic. As there are insufficient parking and junction points at either I-395 or I-66 at the DC line, restrictions must be in place prior to this junction. By restricting these corridors inside the Beltway, passengers can transfer from personal vehicles to buses at pre-determined locations along the I-95 corridor and along the I-66 corridor outside the capital beltway and congestion inside the beltway will be minimized. Should a weather event, incident, or the need to evacuate arise, management of the situation will be easier with only buses on these facilities.

The temporary closure should have no impact on Interstate commerce. I-95, which is the main north-south Interstate route in the region, is signed around the Washington Beltway (I-495) so that Interstate traffic need not enter the District at all. Commercial vehicles can also use Route 301 to circumvent Washington when traveling between Virginia and Maryland.

Commercial motor vehicles, of the dimensions and configurations described in 23 CFR 658.13 and 658.15, serving the area can utilize the routes listed above in response to 23 CFR 658.11(d)(2)(ii). Vehicles serving the District of Columbia will be unable to do so because the local and National Highway System (NHS) street network will also be closed during the inauguration. Therefore, the closure of the I-395 and I-66 segments of the Interstate will have no material effect on such traffic. Entities requiring deliveries within and adjacent to the area of closed local and NHS streets will be encouraged to receive deliveries before or after January 20th.

To assist in facilitating interstate commerce the VDOT has already begun an extensive coordination effort with the District of Columbia, the State of Maryland and local jurisdictions such as the counties of Fairfax and Arlington to minimize traffic disruptions. Requests have been made for adjacent jurisdictions to cooperate in routing traffic around the closure and warn interstate traffic of the closure by signs, and other means to get the message out to the trucking industry and the rest of the traveling public.

Authority: 23 U.S.C. 127, 315 and 49 U.S.C. 31111, 31112, and 31114; 23 CFR Part 658.

Issued on: January 12, 2009.
Thomas J. Madison, Jr.,
Federal Highway Administrator.

[FR Doc. E9-900 Filed 1-13-09; 4:15 pm]

BILLING CODE 4910-22-P